NATIONAL AERONAUTICS AND SPACE ADMINISTRATION

14 CFR Part 1214

[Notice: (03-043)]

RIN 2700-AC56

Recruitment and Selection of Astronaut Candidates

AGENCY: National Aeronautics and Space Administration.

ACTION: Direct final rule.

SUMMARY: The National Aeronautics and Space Administration (NASA) is amending its regulations setting forth its procedures for recruitment and selection of astronaut candidates. NASA's astronaut candidate selection process was developed to select highly qualified individuals to perform in mission specialist and pilot astronaut positions in human space programs. The activities currently are conducted by the Astronaut Selection Office at the Johnson Space Center (JSC). NASA proposes to amend the rules to permit some of these recruitment and selection activities to be performed by NASA organizational elements that are not part of JSC. This change is necessary to conduct efficient and effective recruitment of a new component of the Astronaut Program, the Educator Astronauts.

DATES: This rule is effective July 22, 2003, without further action, unless adverse comment is received by May 23, 2003. If adverse comment is received, NASA will publish a timely withdrawal of the rule in the Federal Register.

ADDRESSES: Written comments should be addressed to NASA Headquarters, Code FPP, 300 E Street, SW., Washington, DC 20546.

FOR FURTHER INFORMATION CONTACT: Candace Irwin, NASA Headquarters, Code FPP, 300 E Street, SW., Washington, DC 20546; telephone (202) 358-1206.

SUPPLEMENTARY INFORMATION: This direct final rule amends the NASA regulations governing the NASA Astronaut Candidate Recruitment and Selection Program. NASA is amending its regulations to address the addition of a new component of the Astronaut corps: Educator Astronauts. The Educator Astronaut Program is designed to motivate U.S. students and educators to recognize the value of science, technology, engineering, and mathematics; attract more people to the teaching, science, technology, engineering, and mathematics professions; enhance the public's understanding of the value of America's educators; and share the diverse people and opportunities that advance our Nation's achievements in science, technology, and exploration. NASA will recruit educators to join NASA's Astronaut Corps to perform educator as well as mission specialist duties that will support NASA's education outreach program. Involvement of appropriate elements of the education community is integral to conduct activities associated with the recruitment and selection of Educator Astronauts. The current rule, assigning responsibility to JSC for individual activities such as announcing astronaut candidate opportunities, implementing the application process, reviewing applications, establishing cutoff dates for accepting applications, and appointing the rating panel, supports the historical Astronaut Candidate Program but does not enable enhancements to the program that necessarily require activities outside of JSC. The Educator Astronaut positions, which will be integral to the Astronaut Candidate Program, offer an education component, necessitating involvement by NASA's Office of Education at NASA Headquarters, in activities leading to identification of candidates who meet the educator requirements of the position. Accordingly, the rule is being amended so that a specific NASA Center is not assigned responsibility for conducting an activity that could be performed by, or in conjunction with, another NASA Center or Headquarters.

Matters of Regulatory Procedure

Executive Order 12866 Determination

This rule is not a “significant regulatory action” under section 3(f) of Executive Order 12866, Regulation, Planning and Reviews, and does not require an assessment of potential costs and benefits under section 6(a)(3) of that Order. The Office of Management and Budget has not reviewed it under that Order.

Small Entities

Under the Regulatory Flexibility Act (5 U.S.C. 601-612), NASA has considered whether this rule would have a significant economic impact on a substantial number of small entities. The term “small entities” comprises small businesses, not-for-profit organizations that are independently owned and operated and are not dominant in their fields, and governmental jurisdictions with populations of less than 50,000. Pursuant to 5 U.S.C. 605(b), NASA certifies that this rule will not have a significant economic impact on a substantial number of small entities because the rule affects the operations of NASA and its employees. Accordingly, no regulatory flexibility analysis is required.

Collection of Information

This rule calls for no new collection of information under the Paperwork Reduction Act (44 U.S.C. 3501-3520).

Federalism

A rule has implications for federalism under Executive Order 13132, Federalism, if it has a substantial direct affect on State or local governments and would either preempt State law or impose a substantial direct cost of compliance on them. NASA has analyzed this rule under that Order and has determined that it does not have implications for federalism.

Indian Tribal Governments

This rule does not have tribal implications under Executive Order 13175, Consultation and Coordination with Indian Tribal Governments, because it does not have a substantial direct affect on one or more Indian tribes, on the relationship between the Federal government and Indian tribes, or on the distribution of power and responsibilities between the Federal government and Indian tribes.

Taking of Private Property

This rule would not affect a taking of private property or otherwise have taking implications under Executive Order 12630, Governmental Action and Interference with Constitutionally Protected Property Rights.

Civil Justice Reform

This rule meets applicable standards in section 3(a) and 3(b)(2) of Executive Order 12988, Civil Justice Reform, to minimize litigation, eliminate ambiguity, and reduce burden.

Unfunded Mandates Reform Act

Title II of the Unfunded Mandates Reform Act of 1995 (2 U.S.C. 1531-1538) requires Federal agencies to assess the effectiveness of their discretionary regulatory actions. NASA has determined that the rule will not result in expenditures of $100 million or more by State, local, or tribal governments or by the private sector. The rule affects only the internal organization of NASA. Accordingly, NASA has not prepared a budgetary impact statement or specifically addressed regulatory alternatives.

List of Subjects in 14 CFR Part 1214

Government employees, Security measures, Space transportation and exploration.

PART 1214—SPACE FLIGHT

14 CFR part 1214 is amended as follows:

1. The authority citation for part 1214 is revised to read as follows:

Authority: Section 203(c)(1), National Aeronautics and Space Act of 1958, as amended (42 U.S.C. 2473(c)).

Subpart 1214.11—NASA Astronaut Candidate Recruitment and Selection Program

§ 1214.1101 [Amended]

2. In § 1214.1101, remove the words “by the Johnson Space Center (JSC)” in paragraph (a), remove paragraph (c), and redesignate paragraphs (d) and (e) as paragraphs (c) and (d), respectively.

§ 1214.1102 [Amended]

3. In § 1214.1102, in the first sentence of paragraph (a), remove the words “by the JSC Human Resources Office,” and in the second sentence, remove the words “in writing;”

In paragraph (d) remove the words “by JSC.” and

Revise paragraphs (b) and (c) and the last sentence of paragraph (d) to read as follows:

§ 1214.1102 Evaluation of applications.

* * * * *

(b) A rating panel composed of discipline experts will review and rate qualified applicants as “Qualified” or “Highly Qualified.”

(c) Efforts will be made to ensure that minorities and females are included among these discipline experts on the rating panel.

(d) * * * This evaluation process will be monitored to ensure adherence to applicable policy, laws, and regulations.

* * * * *

§ 1214.1103 [Amended]

4. In § 1214.1103, remove the last sentence of paragraph (b) and revise the first sentence in paragraph (b) to read as follows:

§ 1214.1103 Application cutoff date.

* * * * *

(b) Once such approval has been obtained, a cutoff date for the acceptance of applications will be established. * * *

§ 1214.1104 [Amended]

5. In § 1214.1104, revise paragraph (a) to read as follows:

§ 1214.1104 Evaluation and ranking of highly qualified candidates.

(a) A selection board consisting of discipline experts, and such other persons as appropriate, will further evaluate and rank the “Highly Qualified” applicants.

* * * * *

Dated: April 14, 2003.
Sean O'Keefe,
Administrator.

[FR Doc. 03-10002 Filed 4-22-03; 8:45 am]

BILLING CODE 7510-01-P